DEPARTMENT OF LABOR

Employment and Training Administration

[TA-W-52,427]

Dan River, Inc., Danville, VA; Notice of Determination of Alternative Trade Adjustment Assistance

The Department adopted a new interpretation regarding the Alternative Trade Adjustment Assistance (ATAA) program in order to provide equitable access to ATAA for worker groups whose petitions were still in process at the time of implementation of the ATAA program on August 6, 2003. Under this new interpretation, worker groups covered by the certification of a petition that was in process on August 6, 2003 may request ATAA consideration for the certified worker group. The request must be made to the Department and may be made by anyone who was entitled to file the original petition under section 221(a)(1) of the Act.

By letter dated October 15, 2004, a company official of Dan River, Inc. requested ATAA consideration for the workers at its facility in Danville, Virginia. The original petition date was July 14, 2003, and the certification for Trade Adjustment Assistance (TAA) was signed on August 20, 2003. The Notice of the Department's determination was published in the Federal Register on September 17, 2003 (68 FR 54497-01).

The initial investigation did not address ATAA eligibility for the workers of the subject company.

In the request for consideration, a company official provided information that supports ATAA certification.

The investigation revealed that the subject worker group possesses skills that are not easily transferable in the local area, and that at least five percent of the workforce at the subject firm is at least fifty years of age.

Industry data show that competitive conditions within the textile industry are adverse.

Conclusion

After careful review of the facts obtained on investigation, I conclude that the requirements of Section 246(a)(3)(A) of the Trade Act of 1974, as amended, have been met for workers at the subject firm.

In accordance with the provisions of the Act, I make the following certification:

All workers of at Dan River, Inc., Danville, Virginia, who became totally or partially separated from employment on or after July 14, 2002 through August 20, 2005, are eligible to apply for alternative trade adjustment assistance under section 246 of the Trade Act of 1974.

Signed in Washington, DC, this 29th day of October 2004.
Linda G. Poole,
Certifying Officer, Division of Trade Adjustment Assistance.

[FR Doc. E4-3146 Filed 11-10-04; 8:45 am]

BILLING CODE 4510-30-P